ENVIRONMENTAL PROTECTION AGENCY

40 CFR Part 52

[EPA-R03-OAR-2007-0453; FRL-8741-5]

Approval and Promulgation of Air Quality Implementation Plans; Pennsylvania; 2002 Base Year Inventory for the Pittsburgh-Beaver Valley 8-Hour Ozone Nonattainment Area

AGENCY: Environmental Protection Agency (EPA).

ACTION: Final rule.

SUMMARY: EPA is approving a State Implementation Plan (SIP) revision submitted by the Commonwealth of Pennsylvania. This revision establishes a 2002 base year inventory for the Pittsburgh-Beaver Valley, Pennsylvania, ozone nonattainment area (the Pittsburgh Area). The intended effect of this action is to approve a 2002 base year inventory for the Pittsburgh Area. This action is being taken under the Clean Air Act.

DATES: Effective Date: This final rule is effective on December 17, 2008.

ADDRESSES: EPA has established a docket for this action under Docket ID Number EPA-R03-OAR-2007-0453. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Christopher Cripps, (215) 814-2179, or by e-mail at cripps.christopher@epa.gov.

SUPPLEMENTARY INFORMATION: Throughout this document whenever “we”, “us”, or “our” is used, we mean EPA.

I. Background

On July 11, 2007 (72 FR 37683), EPA published a notice of proposed rulemaking (NPR) for the Commonwealth of Pennsylvania (the July 11, 2007 NPR). The July 11, 2007 NPR proposed approval of a request submitted by the Pennsylvania Department of Environmental Protection (PADEP) that the Pittsburgh Area be redesignated as attainment for the 0.08 parts per million (ppm) 8-hour ozone national ambient air quality standard (NAAQS) that was promulgated on July 18, 1997 (62 FR 38856) (the “1997 8-hour ozone NAAQS”).¹ The July 11, 2007 NPR proposed approval of a SIP revision comprising a maintenance plan for the Pittsburgh Area that provides for continued attainment of the 1997 8-hour ozone NAAQS for at least 10 years after redesignation and the motor vehicle emission budgets (MVEBs) that were identified in this maintenance plan for purposes of transportation conformity. The July 11, 2007 NPR also proposed approval of a 2002 base year inventory for the Pittsburgh Area as a SIP revision.

¹ On March 27, 2008 (73 FR 16436), EPA revised the level of the primary and secondary 8-hour ozone NAAQS to 0.075 ppm, but the Pittsburgh area has not been designated under this revision to the NAAQS.

The PADEP submitted the formal SIP revisions and the request that the Pittsburgh Area be redesignated to attainment of the 1997 8-hour ozone NAAQS (the “redesignation request”) on April 26, 2007.

On May 29, 2008, the PADEP submitted a letter to formally withdraw the redesignation request and the maintenance plan SIP revision. On August 1, 2008, PADEP affirmed that the Commonwealth was not withdrawing the 2002 base year emissions inventory SIP revision submitted on April 26, 2007, and submitted an amended SIP revision document which struck-out the maintenance plan elements, leaving only the 2002 base year emissions inventory. The Commonwealth of Pennsylvania has withdrawn the redesignation request and the maintenance plan SIP revision from our consideration. In a separate action, we are withdrawing our proposed actions on the redesignation request and on the maintenance plan and the MVEBs identified therein.

As discussed in the July 11, 2007 NPR, we proposed to approve the 2002 base year emissions inventory for the Pittsburgh Area to fulfill the inventory requirements, as necessary, of both section 172(c)(3) and section 182(a)(1) of the Clean Air Act. See, 72 FR 37863 at 37688, July 11, 2007.

II. Summary of SIP Revision

The 2002 base year inventory establishes a comprehensive inventory for both volatile organic compounds (VOC), nitrogen oxides (NOX) and carbon monoxide (CO) emissions in the Pittsburgh Area, including point, area, mobile on-road, and mobile non-road sources for a base year of 2002. A summary of the VOC and NOX emissions in tons per year (tpy) and in tons per day (tpd) by sector are presented in Table 1.

Table 1—Pittsburgh Area 2002 Base Year Inventory
Source sector | VOC emissions: tpy | VOC emissions: tpd | NOX emissions: tpy | NOX emissions: tpd | CO emissions: tpy | CO emissions: tpd
Point Sources | 6134.0 | 16.5 | 92842.2 | 250.4 | 50966.0 | 134.5
Nonpoint Sources | 40162.6 | 100.3 | 33052.2 | 11.5 | 33052.2 | 61.6
Onroad Mobile Sources | 29285.5 | 86.4 | 493445.8 | 173.9 | 493445.8 | 630.1
Nonroad Mobile Sources | 15193.1 | 51.5 | 174583.3 | 86.1 | 174583.3 | 1105.6
Total Emissions | 90775.2 | 254.7 | 793923.5 | 521.9 | 752047.3 | 1931.8

Other specific requirements for the 2002 base year inventory and the rationale for EPA's proposed action are explained in the July 11, 2007 NPR and will not be restated here. No public comments were received on the July 11, 2007 NPR.

III. Final Action

EPA is approving the 2002 base year inventory for the Pittsburgh Area as a revision to the Pennsylvania SIP.

IV. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by January 16, 2009. Filing a petition for reconsideration by the Administrator of this final rule does not affect the finality of this action for the purposes of judicial review nor does it extend the time within which a petition for judicial review may be filed, and shall not postpone the effectiveness of such rule or action. This action to approve a 2002 base year inventory for the Pittsburgh Area may not be challenged later in proceedings to enforce its requirements. (See section 307(b)(2).)

List of Subjects in 40 CFR Part 52

Environmental protection, Air pollution control, Carbon monoxide, Incorporation by reference, Intergovernmental relations, Nitrogen dioxide, Ozone, Volatile organic compounds.

Dated: November 7, 2008.
Donald S. Welsh,
Regional Administrator, Region III.

40 CFR part 52 is amended as follows:

PART 52—[AMENDED]

1. The authority citation for part 52 continues to read as follows:

Authority: 42 U.S.C. 7401 et seq.

Subpart NN—Pennsylvania

2. In § 52.2020, the table in paragraph (e)(1) is amended by adding an entry for the 2002 Base Year Emissions Inventory for the Pittsburgh-Beaver Valley Nonattainment Area at the end of the table to read as follows:

§ 52.2020 Identification of plan.

* * * * *

(e) * * *

(1) * * *

Name of non-regulatory SIP revision | Applicable geographic area | State submittal date | EPA approval date | Additional explanation
* * * * * * *
2002 Base Year Emissions Inventory | Pittsburgh-Beaver Valley Nonattainment Area: Allegheny, Armstrong, Beaver, Butler, Fayette, Washington, and Westmoreland counties | 4/26/07 | 11/17/08 [Insert page number where the document begins] |

* * * * *

[FR Doc. E8-27210 Filed 11-14-08; 8:45 am]

BILLING CODE 6560-50-P